DEPARTMENT OF COMMERCE

National Oceanic and Atmospheric Administration

[I.D. 010302C]

Fisheries off West Coast States and in the Western Pacific; Pacific Coast Groundfish Fishery; Notice of Availability of Observer Coverage Plan

AGENCY: National Marine Fisheries Service (NMFS), National Oceanic and Atmospheric Administration (NOAA), Commerce.

ACTION: Notice of availability of Observer Coverage Plan for the Pacific Coast Groundfish Fishery.

SUMMARY: NMFS announces availability of the Observer Coverage Plan for the Pacific Coast Groundfish Fishery pursuant to Amendment 13 (bycatch provisions) to the Pacific Coast Groundfish Fishery Management Plan (FMP).

FOR FURTHER INFORMATION CONTACT: Yvonne deReynier or Becky Renko (Northwest Region, NMFS), phone: 206-526-6140; fax: 206-526-6736 and e-mail: yvonne.dereynier@noaa.gov, becky.renko@noaa.gov. Copies of the Observer Coverage Plan may also be obtained from these contacts.

Electronic Access

This Federal Register document is also accessible via the internet at the website of the Office of the Federal Register: http://www.access.gpo.gov/su-docs/aces/aces140.html. The Observer Coverage Plan is accessible at http://www.nwfsc.noaa.gov/fram/Observer .

SUPPLEMENTARY INFORMATION: NMFS approved Amendment 13 to the Pacific Coast Groundfish FMP on December 21, 2000. Amendment 13 implements the bycatch requirements of the Sustainable Fisheries Act Amendments of 1996. Among other things, Amendment 13 authorizes an at-sea observer program in fulfillment of the requirement that a standardized reporting methodology for bycatch be established. Federal funding was obtained, and the observer program was initiated in August 2001.

Amendment 13 states that details of how observer coverage will be distributed across the West Coast groundfish fleet will be described in an observer coverage plan and that NMFS will publish an announcement of the authorization of the observer program and description of the observer coverage plan in the Federal Register. To comply with this requirement, the Northwest Fisheries Science Center developed an initial Observer Coverage Plan (Sampling Plan and Logistics for the West Coast Groundfish Observer Program (WCGOP), Fall 2001), which may be obtained from the individuals listed under FOR FURTHER INFORMATION CONTACT section. The plan outlines the initial goals and methodology of the WCGOP, and describes the initial observer deployments. The program is expected to evolve as it progresses, and new information becomes available.

Authority: 16 U.S.C. 1801 et seq.

Dated: January 7, 2002.
Jon Kurland,
Acting Director, Office of Sustainable Fisheries, National Marine Fisheries Service.

[FR Doc. 02-647 Filed 1-9-02; 8:45 am]

BILLING CODE 3510-22-S